ENVIRONMENTAL PROTECTION AGENCY

[FRL-7065-5]

Agency Information Collection Activities: Proposed Collection; Comment Request; Reporting Requirements for BEACH Grants

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Reporting Requirements for BEACH Act Grants EPA ICR No. 2048.01. Before submitting the ICR to OMB for review and approval, EPA is soliciting comments on specific aspects of the proposed information collection as described below.

DATES: Comments must be submitted on or before November 26, 2001.

ADDRESSES: Interested persons may obtain a copy of the ICR without charge by contacting EPA staff listed in the section below. Please send comments concerning this notice to the Standards and Health Protection Division (4305), 1200 Pennsylvania Ave. NW., Washington DC, 20460. Please submit electronic comments to kovatch.charles@epa.gov. Overnight delivery or hand delivery should be delivered to the Standards and Health Protection Division at 401 M Street, SW; Room 509 West Tower; Washington, DC, 20460. Please see SUPPLEMENTARY INFORMATION for other information about comments.

FOR FURTHER INFORMATION CONTACT: Mr. Charles Kovtach at EPA, telephone 202-260-3754; email kovatch.charles@epa.gov; facsimile 202-260-3754.

SUPPLEMENTARY INFORMATION:

Affected entities: Entities potentially affected by this action are those coastal and Great Lakes state, local, and tribal governments which are eligible for BEACH Act grants. These are governments that develop and implement programs for monitoring and notification of coastal (marine and Great Lakes) recreation waters adjacent to beaches or similar points of access that are used by the public.

Title: Reporting Requirements for BEACH Act Grants, EPA ICR No. 2048.01.

Abstract: Congress passed the Beaches Environmental Assessment and Coastal Health (BEACH) Act October 2000, to amend the Clean Water Act in part by adding section 406 “Coastal Recreation Water Monitoring and Notification.” Section 406(b) requires EPA to make grants to States and local governments to develop and implement programs for monitoring and public notification for coastal recreation waters adjacent to beaches or similar points of access that are used by the public, if the State or local government satisfies the requirements of the BEACH Act.

Several of these requirements require a grant awardee to collect and submit information to EPA as a condition for receiving the grant. Section 406(b) requires a grant awardee to provide the factors that the awardees use to prioritize funds and a list of waters for which the grant funds will be used. Section 406(b) also requires that a grant awardee's program is consistent with the performance requirements set by EPA under section 406(a); EPA needs information from the grant awardee to determine if the monitoring and notification programs are consistent with these criteria. On July 31, 2001, EPA published the draft performance criteria for BEACH Act grants (66 FR 39510, July 31, 2001). Section 406(b) also requires that a grant awardee submit a report to EPA that describes the data collected as part of a monitoring and notification program and the actions taken to notify the public when water quality standards are exceeded. Section 406(c) requires a grant awardee to identify lists of coastal recreation waters, processes for States to delegate to local governments the responsibility for implementing a monitoring and notification program, and the content of the monitoring and notification program.

The information covered by this draft ICR is required of States and local governments that seek to obtain BEACH Act funding. It allows EPA to properly review State and local governments' monitoring and notification programs to determine if they are eligible for BEACH Act grant funding. This information also enables EPA to fulfill its obligations to make this information available to the public as required by sections 406(e) and (g).

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The annual public reporting and record keeping burden for this collection of information is estimated to average 408 hours per response for the first year of the implementation grant program, 281 hours per response in the second year, and 274 hours in the third year. This burden represents a report that is submitted once each year. For the first year of the grant program, 34 States and territories will be eligible for the grants. In subsequent years, authorized tribes will become eligible and local governments may become eligible if their State monitoring and notification programs are not consistent with the section 406(a) performance criteria.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Comments: You may submit comments by mail, e-mail, or delivered by hand to the addresses shown in the ADDRESSES section of this notice. EPA will not accept facsimiles (faxes). If you mail or hand deliver comments, please send an original and three copies of your comments and enclosures (including references). If you want receipt of your comments acknowledged, you must include a self-addressed, stamped envelope. You may also submit your comments by sending an e-mail to kovatch.charles@epa.gov or by disk. If you do, you must submit electronic comments as an ASCII file, or a WordPerfect 5.1, WordPerfect 6.1, or WordPerfect 8 file avoiding the use of special characters and any form on encryption, and identify these comments by the ICR No. 2048.01 on the subject line. You may file electronic comments on this notice at many Federal Depository Libraries. You should not send confidential business information by e-mail.

Dated: September 17, 2001.
Geoffrey H. Grubbs,
Director, Office of Science and Technology.

[FR Doc. 01-24063 Filed 9-25-01; 8:45 am]

BILLING CODE 6560-50-P